FEDERAL MARITIME COMMISSION

Ocean Transportation Intermediary License Correction

In the Federal Register Notice published August 7, 2003 (68 FR 47064) the reference to Dart Cargoways India Private Limited is corrected to read:

Draft Cargoways India Private Limited, No. 14 More Street, Chennai—600 001, Tamilnadu, 91-44-25272128, India.

Dated: August 15, 2003.
Karen V. Gregory,
Acting Assistant Secretary.

[FR Doc. 03-21315 Filed 8-19-03; 8:45 am]

BILLING CODE 6730-01-P